DEPARTMENT OF TRANSPORTATION

Research and Special Programs Administration

Actions on Exemption Applications

AGENCY: Research and Special Programs Administration, DOT

ACTION: Notice of actions on Exemption Applications.

SUMMARY: In accordance with the procedures governing the application for, and the processing of, exemptions from the Department of Transportation's Hazardous Materials Regulations (49 CFR Part 107, Subpart B), notice is hereby given of the actions on exemption applications in May-August 2000. The modes of transportation involved are identified by a number in the “Nature of Application” portion of the table below as follows: 1—Motor vehicle, 2—Rail freight, 3—Cargo vessel, 4—Cargo aircraft only, 5—Passenger-carrying aircraft. Application numbers prefixed by the letters EE represent applications for Emergency Exemptions. It should be noted that some of the sections cited were those in effect at the time certain exemptions were issued.

Issued in Washington, DC, on September 28, 2000.
J. Suzanne Hedgepeth,
Director, Office of Hazardous Materials Exemptions and Approvals.

Application No. | Exemption No. | Applicant | Regulation(s) affected | Nature of exemption thereof
Modification Exemptions
8723-M | DOT-E 8723 | Austin Powder Company, Cleveland, OH | 49 CFR 172.101, 173.242, 173.62, 176.83, 177.848 | To modify the exemption to allow for an additional tote bin packaging for the transportation in commerce of bulk shipments of certain blasting agents.
9830-M | DOT-E 9830 | Worthington Cylinder Corporation, Columbus, OH | 49 CFR 173.201, 173.202, 173.203, 173.302(a), 173.304(a), 173.304(d), 175.3 | To modify the exemption to allow for the transportation of Class 3 and Division 6.1 materials in non-DOT specification stainless steel cylinders designed in part with DOT Specification 4BA cylinders.
10555-M | DOT-E 10555 | Pacific Scientific, HTL/KIN-Tech Division, Duarte, CA | 49 CFR 173.304(a)(1), 175.3 | To modify the exemption to allow for the transportation of an additional Division 2.2 material in an alternative non-DOT specification cylinder.
10595-M | DOT-E 10595 | Allied Universal Corp., Miami, FL | 49 CFR 176.67(i), (j) | To modify the exemption to allow for the transportation of Class 8 materials in tanks cars, to remain standing with unloading connections attached when no product is being transferred.
10704-M | DOT-E 10704 | Puritan-Bennett Medical Gases (Mallinckrodt, Inc.), Overland Park, KS | 49 CFR 173.302(a), Part 172, Part 172, Subpart C, E & F, Part 174, Part 177 | To modify the exemption to allow for calibration and functional checks of medical analyzers or monitors; lower minimum burst pressure to 340 psig.
10832-M | DOT-E 10832 | Autoliv ASP, Inc., Ogden, UT | 49 CFR 173.56(b), 173.61(b), Part 172, Subpart D, E | To modify the exemption to include two additional manufacturing sites for the transportation for disposal of unapproved waste explosive materials used in passive restraint systems.
11327-M | DOT-E 11327 | Phoenix Services Limited Partnership, Pasadena, MD | 49 CFR 172.101 Column (8b), (8c), 173.197 | To modify the exemption to include changes to the packaging system for the transportation of regulated medical waste in non-DOT specification dual packaging.
11327-M | DOT-E 11327 | Phoenix Services Limited Partnership, Pasadena, MD | 49 CFR 172.101 Column (8b), (8c), 173.197 | To modify the exemption to allow for the use of an additional container design type for the transportation of regulated medical waste.
11406-M | DOT-E 11406 | Conf. of Radiation Control Program Directors, Inc., Frankfort, KY | 49 CFR 173.22(a)(1), 177.842, Part 172, Subparts C, D, E, F, G, H, Part 173, Subparts B, I, Part 174, Subpart K | To modify the exemption to revise approval provisions and documentation required for shipments of waste or recycled materials, Class 7.
11548-M | DOT-E 11548 | Lyondell Chemical Co/Equistar Chemicals, LP, Houston, TX | 49 CFR 173.187, 173.211, 173.212, 173.213 | To modify the exemption to allow for the transportation of additional Division 4.1 and Division 4.2 materials in DOT Specification cylinders except Specification 8 and 3HT.
11722-M | DOT-E 11722 | CITERGAS, S.A., Civray, FR | 49 CFR 173.302 | To modify the exemption to permit new construction of the non-DOT specification spherical pressure vessels and additions to the product list.
11749-M | DOT-E 11749 | Union Tank Car Company, East Chicago, IN | 49 CFR 172.203(a), 172.302(c), 180.509(e) | To modify the exemption to change the requirements for shippers holding party status and the need for them to maintain a copy of the exemption at their facilities.
11749-M | DOT-E 11749 | Union Tank Car Company, East Chicago, IN | 49 CFR 172.203(a), 172.302(c), 180.509(e) | To modify the exemption to allow for the use of acoustic emission for specific areas of a tank car in conjunction with other non-destructive test methods for structural integrity inspections.
11761-M | DOT-E 11761 | Westvaco Corporation, Richmond, VA | 49 CFR 172.302(c), 173.31(d)(1)(vi) | To modify the exemption to allow for the transportation of additional Class 8 materials in certain DOT specification and AAR specification tank cars; to allow relief from the marking requirements.
11761-M | DOT-E 11761 | Vulcan Chemicals, Birmgingham, AL | 49 CFR 172.302(c), 173.31(d)(1)(vi) | To modify the exemption to eliminate the marking requirements of certain DOT specifications and AAR specifications tank cars containing a residue of Class 8 materials.
11777-M | DOT-E 11777 | Autoliv ASP, Inc., Ogden, UT | 49 CFR 173.301(h), 173.302 | To modify the exemption to authorize a design change to allow for side wall attachment studs on a non-DOT specification pressure vessel.
12132-M | DOT-E 12132 | Carleton Technologies, Inc., Orchard Park, NY | 49 CFR 173.302(a)(1), 175.3, 178.35, 178.65 | To modify the exemption to allow for a design change of the hermetically sealed high pressure gas cylinder containing Division 2.2 argon gas.
12189-M | DOT-E 12189 | Automotive Recyclers Association, Fairfax, VA | 49 CFR 173.166(c)(5) | To modify the exemption to allow for rail freight and cargo vessel as authorized modes of transportation for shipments of air bag modules or seat belt pre-tensioners.
12221-M | DOT-E 12221 | Advanced Technology Materials, Inc. (ATMI), Danbury, CT | 49 CFR 173.192, 173.302, 173.304 | To modify the exemption to authorize non-DOT specification containers to be constructed of stainless steel; smaller initial capacity size for specific lab containers; and the inclusion of Division 2.2, 6.1 and additional Division 2.3 materials.
12378-M | DOT-E 12378 | Federal Express Corporation, Memphis, TN | 49 CFR 172.203(a), 172.301(c), 175.33 | To modify the exemption to eliminate the recordkeeping requirements outlines in the exemption for the transportation of dry ice not meeting the exceptions identified in Section 175.10.
12378-M | DOT-E 12378 | Federal Express, Memphis, TN | 49 CFR 172.203(a), 172.301(c), 175.33 | To modify the exemption to indicate applicability to companies under subcontract operating under exclusive use for Federal Express for the transportation in commerce of dry ice by cargo aircraft only.
12399-M | DOT-E 12399 | BOC Gases, Murray Hill, NJ | 49 CFR 173.34(e)(1), 173.34(e)(14), 173.34(e)(15)(vi), 173.34(e)(3), 173.34(e)(4), 173.34(e)(8) | To modify the exemption to amend the equipment performance and test procedure language authorizing the use of an alternative test method for certain DOT Specification 3AL cylinders for the transportation of compressed gases.
12447-M | DOT-E 12447 | Akzo Nobel Coatings, Inc., Norcross, GA | 49 CFR 172.407(c)(1) | To reissue the exemption originally issued on an emergency basis authorizing the use of hazard warning labels that do not conform with the specifications in the HMR.
12448-M | DOT-E 12448 | Onyx Environmental Services, L.L.C., Flanders, NJ | 49 CFR 173.304(a)(2) | To reissue the exemption originally issued on an emergency basis for the transportation of anhydrous ammonia in DOT specification cylinders.
12463-M | DOT-E 12463 | Washington State Ferries, Seattle, WA | 49 CFR 172.101 Column (10), 172.301(c), 172.302(c), 173.302(a) | To reissue the exemption originally issued on an emergency basis for the transportation of oxygen, refrigerated liquid, in insulated cylinders or insulated cargo tanks aboard passenger vessels.
12106-N | DOT-E 12106 | Air Liquide America Corporation, Houston, TX | 49 CFR 173.24(g), 173.314(o) | To authorize the venting of a DOT-specification 105A400W tank car used for the transportation of carbon dioxide, Division 2.2. (mode 2)
12205-N | DOT-E 12205 | Independent Chemical Corp., Glendale, NY | 49 CFR 177.848 | To authorize the transportation in commerce of Division 4.2 and Class 8 material inside poly bags within plastic lined UN 1G/Y fiber drums to be transported exempt from segregation criteria. (mode 1)
12292-N | DOT-E 12292 | Westway Trading Corporation, New Orleans, LA | 49 CFR 179.12 | To authorize the one-time transportation in commerce of a loaded non-hazardous material railcars containing broken interior steam coils. (mode 2)
12297-N | DOT-E 12297 | Applied Companies, Valencia, CA | 49 CFR 173.302 | To authorize the transportation in commerce of non-DOT specification cylinders for aircraft use constructed of stainless steel with a psi maximum service pressure that exceeds the requirement for use in transportation Division 2.2 material. (mode 4)
12325-N | DOT-E 12325 | Lifeline Technologies, Inc., Sharon Hill, PA | 49 CFR 172.302(c), 174.67(i), (j) | To authorize an alternative monitoring system during unloading of various hazardous materials without the physical presence of an unloader. (mode 2)
12341-N | DOT-E 12341 | Space Systems/Loral, Palo Alto, CA | 49 CFR 173.302 | To authorize the transportation in commerce of non-DOT Specification cylinders pressurized to a low storage pressure with Division 2.2 material. (modes 1, 4)
12350-N | DOT-E 12350 | BAC Technologies, Ltd, West Liberty, OH | 49 CFR 173.302(a), 173.304(a), 173.34, 175.3 | To authorize the manufacture, marking and sale of non-DOT specification fiber reinforced plastic full composite cylinders for the transportation in commerce of certain compressed gases. (modes 1, 2, 3, 4, 5)
12356-N | DOT-E 12356 | Memorial Healthcare System, Pembroke Pines, FL | 49 CFR 172.101 Columns (8b), (8c), 173.197 | To authorize the transportation in commerce of Regulated medical waste, Division 6.1, in polyethylene bags overpacked in non-DOT specification bulk bins. (mode 1)
12370-N | DOT-E 12370 | Eurotainer US, Inc., Somerset, NJ | 49 CFR 173.242(c) | To authorize the transportation in commerce of Division 4.2 and 6.1 hazardous materials in IM-101 portable tanks. (modes 1, 2, 3)
12383-N | DOT-E 12383 | Sealift Inc., Oyster Bay, NY | 49 CFR 176.116(e)(3) | To authorize the transportation in commerce of Class 1 explosives onboard cargo vessel to be exempt from stowage requirements. (mode 3)
12385-N | DOT-E 12385 | Maine Yankee Atomic Power Co., Wiscasset, ME | 49 CFR 173.403, 173.427(a) | To authorize the transportation in commerce of steam generators and pressurizer packages containing radioactive components. (modes 1, 3)
12386-N | DOT-E 12386 | Maine Yankee Atomic Power Co., Wiscasset, ME | 49 CFR 173.411, 173.427(a)(1), 173.465 | To authorize the transportation in commerce of an atomic power station reactor pressure vessel. (modes 1, 2)
12388-N | DOT-E 12388 | Mountain Safety Research, Seattle, WA | 49 CFR 173.304(d)(3)(ii), 178.33 | To authorize the transportation in commerce of a non-DOT specification container conforming to DOT specification 2P, except for size, testing requirements, and markings, for use in transporting Division 2.1 material. (modes 1, 2, 3, 4)
12390-N | DOT-E 12390 | Industrial Metals, Beaumont, TX | 49 CFR 172.203(a), 173.242 | To authorize the transportation in commerce of IM-101 portable tanks equipped with alternative relief value for use in transporting Class 3 material. (modes 1, 3)
12396-N | DOT-E 12396 | United States Alliance, Houston, TX | 49 CFR 173.302(a), 173.34(d), 175.3 | To authorize the transportation in commerce of a non-DOT specification cylinder as part of a specifically designed device for space flight for use in transporting Nitrogen, Division 2.2. (modes 1, 4)
12398-N | DOT-E 12398 | Praxair, Danbury, CT | 49 CFR 173.34(d), 178.35(e) | To authorize the transportation in commerce of DOT 3A and 3AA cylinders equipped with alternative relief devices for use in transporting Division 2.2 material. (modes 1, 2)
12399-N | DOT-E 12399 | BOC Gases, Murray Hill, NJ | 49 CFR 173.34(e)(1), 173.34(e)(14), 173.34(e)(15)(vi), 173.34(e)(3), 173.34(e)(4), 173.34(e)(8) | To authorize the use of ultrasonic inspection as an alternative retest method for DOT Specification 3AL cylinders. (modes 1, 2, 3)
12402-N | DOT-E 12402 | Taylor-Wharton, Huntsville, AL | 49 CFR 172.203(a), 172.301(c), 178.35(f)(2)(i), 178.39(e) | To authorize the manufacture, marking and sale of non-DOT specification cylinders (comparable to DOT Specification 3BN cylinders) equipped with an alternative bottom plug for use in transporting presently authorized hazardous materials. (modes 1, 2, 3, 4, 5)
12407-N | DOT-E 12407 | Qual-X, Inc., Powell, OH | 49 CFR 173.403, 173.410, 173.412, 173.465, 173.466 | To authorize the transportation in commerce of a specially designed device containing Class 7 hazardous materials. (mode 1)
12411-N | DOT-E 12411 | International Fuel Cells, South Windsor, CT | 49 CFR 173.212 | To authorize the transportation in commerce of dry metal catalysts classified as, Self-heating, solid, inorganic, n.o.s., Division 4.2, in non-DOT specification packaging. (modes 1, 3, 4)
12414-N | DOT-E 12414 | Med-Flex, Inc., Mt. Holly, NJ | 49 CFR 172.101 Columns (8b), (8c), 173.197 | To authorize the transportation in commerce of solid regulated medical waste in non-DOT specification packaging consisting of a bulk outer packaging and non-bulk inner packagings. (mode 1)
12415-N | DOT-E 12415 | Canberra Industries, Meriden, CT | 49 CFR 173.302, 175.3 | To authorize the manufacture, mark, sale and use of non-DOT specification containers described as hermetically-sealed electron tube devices for use in transporting various Division 2.2 material. (modes 1, 2, 3, 4, 5)
12423-N | DOT-E 12423 | Reagent Chemical & Research, Inc., Houston, TX | 49 CFR 172.203(a), 179.13 | To authorize the transportation in commerce of DOT 111A100W5 tank cars that exceed the authorized load capacity for use in transporting hydrochloric acid, Class 8. (mode 2)
12429-N | DOT-E 12429 | National Aeronautics & Space Administration (NASA), Washington, DC | 49 CFR 172.203(a), 172.301(c), 173.309 | To authorize the transportation of carbon dioxide in flight certified, cylindrical portable fire extinguishers used as part of a specially designed device for the Space Station Program. (mode 1)
12431-N | DOT-E 12431 | TITEQ Corp., Palmdale, CA | 49 CFR 172.302, 173.304, 175.3 | To authorize the manufacture, marking, and sale of a reusable non-DOT specification, welded stainless steel cylinder for use in transportation of certain Division 2.2 materials. (modes 1, 2, 4, 5)
12432-N | DOT-E 12432 | Toxco Inc., Anaheim, CA | 49 CFR 171.14(a)(1) | To authorize the transportation in commerce of Class 8 material in non-UN packaging after October 1, 2001 that was filled prior to October 1, 1991. (mode 1)
12437-N | DOT-E 12437 | Stericycle, Inc., Atlanta, GA | 49 CFR 172.101 Columns (8b), (8c), 173.197 | To authorize the transportation in commerce of non-DOT specification steel roll-off containers as outer packagings for use in transporting medical waste in dual packaging. (mode 1)
12442-N | DOT-E 12442 | Cryogenic Vessel Alternatives, La Porte, TX | 49 CFR 176.76(g)(1), 178.318 | To authorize the transportation in commerce of liquid nitrogen, cryogenic liquid, Division 2.2 in insulated portable tanks by cargo vessel for delivery to oil and gas production facilities. (modes 1, 3)
12449-N | DOT-E 12449 | Chlorine Service Company, Kingswood, TX | 49 CFR 173.314 | To authorize the manufacture, marking and sale of a non-DOT specification pressure vessel for use in transporting compressed gases classed in Division 2.1 and 2.2. (modes 1, 2, 3)
12450-N | DOT-E 12450 | Chlorine Service Company, Kingswood, TX | 49 CFR 173.314 | To authorize the manufacture, marking and sale of a non-DOT specification pressure vessel for use in transporting chlorine, Division 2.3. (modes 1, 2, 3)
12452-N | DOT-E 12452 | CA Dept. of Health Services, Berkeley, CA | 49 CFR 172.301(a), 172.301(b), 172.301(c), 173.196, Subpart C of Part 172 | To authorize the transportation in commerce of biological specimens classed as infectious substance (Etiologic agent) in specially designed packagings inside mechanical freezers. (mode 1)
12483-N | DOT-E 12483 | Security Disposal Inc., Waycross, GA | 49 CFR 172.101 Columns (8b), (8c), 173.197 | To authorize the transportation in commerce of solid regulated medical waste, Division 6.2, in a non-DOT specification packaging consisting of a bulk outer packaging and non-bulk inner packagings. (mode 1)
12492-N | DOT-E 12492 | Honeywell International Inc., Morristown, NJ | 49 CFR 173.304(a)(1) | To authorize the transportation in commerce of liquefied gas, n.o.s., Division 2.2 in DOT-3AL 1800 cylinders. (modes 1, 2, 3)
Emergency Exemptions
EE 8178-M | DOT-E 8178 | NASA, Washington, DC | 49 CFR 173.302(a), 173.34(d), 175.3 | Request for emergency mod to extend the life cycle of the primary oxygen bottles to 25 years or 375 pressurizations. (modes 1, 4)
EE 9275-P | DOT-E 9275 | Blissworld, Brooklyn, NY | 49 CFR Parts 100-199 | To become a party to exemption 9275. (modes 1, 2, 3)
EE 9791-M | DOT-E 9791 | Pressed Steel Tank Co., Inc., Milwaukee, WI | 49 CFR 173.301(h), 173.302(a), 173.34(a)(1) | Request for authorization for an additional grade of steel used in the manufacture of non-DOT spec. cylinders. (mode 1)
EE 10926-M | DOT-E 10926 | Radcal Corporation, Monrovia, CA | 49 CFR 173.302, 173.34(d), 175.3 | To modify the exemption to authorize the manufacture, marking, sale and use of non-DOT specification radiation monitors without a safety relief device, which have passed an additional drop test procedure, for the transportation of argon, compressed. (modes 1, 4, 5)
EE 11103-M | DOT-E 11103 | Space Systems/Loral, Palo Alto, CA | 49 CFR 107.302 | To modify the exemption to allow for an alternate landing site for the GOES weather satellite containing non-DOT specification spherical containers pressurized with certain Division 2.2 materials. (mode 1)
EE 12453-M | DOT-E 12453 | EQ-The Environmental Quality Company, Wayne, MI | 49 CFR 172. 302(c), 173.24b(d)(2), 173.26 | Extended exemption to provide for shipment of two additional overloaded rail cars. (mode 2)
EE 12458-N | DOT-E 12458 | Bimax Inc., Cockeysville, MD | 49 CFR 172.301(c), 173.227(c) | Request for an emergency exemption to transport non-DOT specification drums containing a div. 6.1 material. (mode 1)
EE 12459-N | DOT-E 12459 | Alaska Pacific Powder Co., Olympia, WA | 49 CFR 172.101 Column (9), 175.320(a) | Request for an emergency exemption to transport explosives by air. (mode 4)
EE 12462-N | DOT-E 12462 | Rinchem Company, Albuquerque, NM | 49 CFR 173.24 | Request for an emergency exemption for a one-time movement of sulfuric acid contained in a leaking tote (bulk) container. (mode 1)
EE 1244-N | DOT-E 12463 | Washington State Ferries, Seattle, WA | 49 CFR 172.101 Column (10), 172.301(c), 172.302(c), 173.302(a) | Request for an emergency exemption for the movement of oxygen in insulated cylinders or cargo tanks on passenger vessels. (mode 3)
EE 12464-N | DOT-E 12463 | DPC Enterprises, Inc., Houston, TX | 49 CFR 173.24(b), 179.300-12(b), 179.300-13(a), 179.300-14 | Request for a one-time emergency exemption to transport a leaking ton container fitted with a “B” kit. (mode 1)
EE 12467-N | DOT-E 12467 | Allied Universal Corp., Miami, FL | 49 CFR 173.34(d) | Request for an emergency exemption for a one-time transport of a leaking cylinder that has been fitted with a chlorine institute A kit. (mode 1)
EE 12478-N | DOT-E 12478 | American Reclamation Group, LLC, Anchorage, AK | 49 CFR 172.101 Columns (9b), 172.301(c), 173.27(c)(2) | Request for an emergency exemption for the one-time transportation in commerce of hydrogen peroxide aqueous solution by cargo aircraft, which is forbidden. (mode 1)
EE 12480-N | DOT-E 12480 | Allied Universal Corp., Miami, FL | 49 CFR 173.24(b), 179.300-12(b), 179.300-13(a), 179.300-14 | Request for an emergency exemption for the one-time transportation of a leaking ton container fitted with a chemical B kit to prevent leakage during transportation. (mode 1)
EE 12482-N | DOT-E 12482 | Chemical Waste Management Co., Sulphur, LA | 49 CFR 172.302(c), 173.24b(d)(2), 173.26 | Request for an emergency exemption for the one-time transportation of 3 overweight gondola rail cars. (mode 2)
EE 12484-N | DOT-E 12484 | Safety Kleen, Columbia, SC | 49 CFR 173.244(c) | Request for an emergency exemption to transport 2 storage tanks containing sodium. The tanks are not an authorized packaging. (mode 1)
EE 12486-N | DOT-E 12486 | International Paper, Griffin, GA | 49 CFR 172.203(a), 172.301(a)(1), 172.303(c), 178.503(a)(6) | Request for an emergency exemption to use existing stock of mis-marked UN bags that contain ammonium nitrate fertilizer. (mode 1)
EE 12487-N | DOT-E 12487 | DPC Industries, Houston, TX | 49 CFR 173.24(b), 179.300-12(b), 179.300-13(a), 179.300-14 | Request for an emergency exemption for the one-time transportation of a leaking multi-unit tank car tank containing chlorine, that has been fitted with a chemical “B” kit. (mode 1)
EE 12488-N | DOT-E 12488 | JCI Jones Chemicals, Inc., Charlotte, NC | 49 CFR 173.24(b), 179.300-12(b). 179.300-13(a), 179.300-14 | Request for an emergency exemption for the one time transportation in commerce of a leaking tank car tank that is equipped with a Chemical B kit to prevent leakage during transportation. (mode 1)
EE 12489-N | DOT-E 12489 | Solvay Interox, Houston, TX | 49 CFR 173.24(d)(2) | Request for an emergency exemption for the one-time transportation of an over-loaded tank car tank that exceeds the weight limitation for that car. (mode 2)
EE 12490-N | DOT-E 12490 | Hydrite Chemical, Lake Zurich, IL | 49 CFR 172.302(c), 173.24b, 173.26 | Request for a one-time authorization to ship a leaking ton cylinder fitted with an A Kit. (mode 1)
EE 12498-N | DOT-E 12498 | Cook Inlet Pipe Line Co., Anchorage, AK | 49 CFR 172.101 Column (9b), 172.301(c), 173.27(c)(2) | Request for an emergency exemption for the one-time transportation in commerce of a 5.1 material by aircraft. The quantity limitations and chemical concentration exceed those in the HMR. (mode 4)
EE 12499-N | DOT-E 12499 | M&M Service Co., Carlinville, IL | 49 CFR 173.315(k)(6) | Request for an emergency exemption to transport liquefied petroleum gas in a non-DOT specification cargo tank. (mode 1)
EE 12500-N | DOT-E 12500 | National Propane Gas Association, Washington, DC | 49 CFR 173.315(a), 178.245-4(e) | To authorize the one-time one-way transportation of non-DOT specification portable tanks containing residual amounts of liquefied petroleum gas for the purpose of requalifcation and recertification. (modes 1, 3)
EE 12501-N | DOT-E 12501 | Northland Services, Inc., Seattle, WA | 49 CFR 178.245-4(e) | Request for an emergency exemption to transport propane in DOT spec. 51 tanks that technically do not meet the definition of the spec. (mode 3)
EE 12503-N | DOT-E 12503 | Chemical Waste Management, Sulphur, LA | 49 CFR 172.302(c), 173.24b(d)(2), 173.26 | Request for an emergency exemption to transport 3 overloaded gondola cars. (mode 2)
EE 12505-N | DOT-E 12505 | Allied Universal Corp., Miami, FL | 49 CFR 173.34(d) | Request for a one-time emergency exemption to transport a leaking ton cylinder containing chlorine that has been equipped with a Chlorine Institute Emergency A kit. (mode 1)
EE 12507-N | DOT-E 12507 | DPC Industries, Inc., Houston, TX | 49 CFR 172.302(c), 173.24(b), 179.300-12(b), 179.300-13(a), 179.300-14 | Request for emergency exemption to transport a leaking ton cylinder equipped with a chemical B kit. (mode 1)
EE 12508-N | DOT-E 12508 | BASF, Mt. Olive, NJ | 49 CFR 172.101 Column (7) special provision B6, 172.102(c)(3) | Request for a one-time authorization to transport a class 8 material in a UN IBC, which is not an authorized packaging for the material. (mode 1)
EE 12509-N | DOT-E 12509 | U.S. Department of Defense, Washington, DC | 49 CFR 172.101 col. 10A | Request for an emergency exemption to authorize the US DOD to stow palletized cargo of a class 4.2 in an under deck forecastle location instead of on deck. (mode 3)
EE 12510-N | DOT-E 12510 | DPC Enterprises, LP, Houston, TX | 49 CFR 173.34(d) | To authorize the emergency one-time transportation in commerce of a DOT specification 3A480 cylinder containing chlorine. (mode 2)
EE 12511-N | DOT-E 12511 | IMCO Recylcing, Inc., Irving, TX | 49 CFR 173.24b(d)(2), 173.26 | To authorize the emergency transportation in commerce of a rail box car transporting Aluminum Remelting By Products that exceed the maximum gross weight on rail by 3,600 pounds. (mode 2)
EE 12512-N | DOT-E 12512 | Alaska Airlines, Seattle, WA | 49 CFR 172.203(a), 172.301(c), 172.303(a), 172.401(a)(1) and (2) | Request for an emergency exemption to conduct compliance testing of Alaska Airlines; hazardous materials acceptance, storage, and handling procedures. (mode 4)
EE 12513-N | DOT-E 12513 | Sterling Chemicals Inc., Texas City, TX | 49 CFR 172.302(c), 173.24b(d)(2), 173.26 | Request for an emergency exemption to authorize the transportation of an overloaded rail car. (mode 2)
EE 12514-N | DOT-E 12514 | SMI Steel, Cayce, SC | 49 CFR 172.302(c), 173.24b(d)(2), 173.26 | Request for an emergency exemption to transport an over-loaded hopper rail car. (mode 2)
EE 12524-N | DOT-E 12524 | EQ—The Environmental Quality Company, Wayne, MI | 49 CFR 172.302(c), 173.24b(d)(2), 173.26 | Request for an emergency exemption to transport an overloaded gondola rail car. (mode 2)
EE 12528-N | DOT-E 12528 | Permagas, Lake Stevens, WA | 49 CFR 178.245-4(e), 450.3(a)(2) | To authorize the transportation in commerce of an MC-330 tank welded into a 40ft intermodal container for use in transporting propane, Division 2.1 to remote areas. (modes 1, 3)
EE 12529-N | DOT-E 12529 | BP Chemicals Inc., Naperville, IL | 49 CFR 172.302(c), 173.24b(d)(2), 173.26 | Request for an emergency exemption to transport an overweight rail car. (mode 2)
EE 12543-N | DOT-E 12543 | JCI Jones Chemicals, Inc., Jacksonville, FL | 49 CFR 1 2 3 | To authorize emergency transportation in commerce of a DOT 3A 480 Specification container that contains Chlorine that is leaking at the value to be transported with an approved A-Kit. (mode 1)

Denials
6611-M | Request by Gardner Cryogenics Lehigh Valley, PA to modify the exemption to provide for design changes of a non-DOT specification vacuum insulated portable tank manufactured in accordance with ASME Code criteria resulting in an increase of the Maximum Allowable Working Pressure for the transportation of a nonflammable cryogenic liquid denied May 16, 2000.
6765-M | Request by Gardner Cryogenics Lehigh Valley, PA to modify the exemption to provide for design changes of the non-DOT specification portable tanks manufactured in accordance with the ASME Code criteria resulting in an increase of the Maximum Allowable Working Pressures for the transportation of a Division 2.1 and a Division 2.2 material denied May 16, 2000.
10480-M | Request by Gardner Cryogenics Lehigh Valley, PA to modify the exemption to provide for design changes of a non-DOT specification portable tank manufactured in accordance with ASME Code criteria resulting in an increase of the Maximum Allowable Working Pressures; the addition of a 6700 gallon liquid helium tank denied May 16, 2000.
10821-M | Request by BFI Waste Systems of North America, Inc. Atlanta, GA to modify the exemption to relieve the marking requirements of inner packages, inside roll off containers, when transporting regulated medical waste from a single offeror denied May 16, 2000.
11826-M | Request by Spectra Gases, Inc. Branchburg, NJ to modify the exemption to authorize additional Division 2.2 materials transported in DOT-3AL aluminum cylinders denied July 28, 2000.
12155-M | Request by S&C Electric Company Chicago, IL to modify the exemption to authorize an alternative pressure vessel constructed of spirally-wound fiberglass for the transportation of certain Division 2.2 materials denied August 17, 2000.

[FR Doc. 00-25426 Filed 10-3-00; 8:45 am]

BILLING CODE 4909-60-M